DEPARTMENT OF HOMELAND SECURITY

Coast Guard

33 CFR Part 117

[Docket No. USCG-2018-0085]

Drawbridge Operation Regulation; Anacostia River, Washington, DC

AGENCY: Coast Guard, DHS.

ACTION: Notice of deviation from drawbridge regulation.

SUMMARY: The Coast Guard has issued a temporary deviation from the operating schedule that governs the Frederick Douglass Memorial Bridge across the Anacostia River, mile 1.2, at Washington, DC. The deviation is necessary to accommodate the construction and replacement of the existing Frederick Douglass Memorial Bridge with a fixed bridge on an alignment 18 feet south of the existing bridge. The current Frederick Douglass Memorial Bridge will be removed in its entirety. This deviation allows the bridge to remain in the closed-to-navigation position during construction.

DATES: This deviation is effective from 6 a.m. on February 2, 2018, through 6 a.m. on August 1, 2018.

ADDRESSES: The docket for this deviation, [USCG-2018-0085], is available at http://www.regulations.gov. Type the docket number in the “SEARCH” box and click “SEARCH”. Click on Open Docket Folder on the line associated with this deviation.

FOR FURTHER INFORMATION CONTACT: If you have questions on this temporary deviation, call or email Mr. Marty Bridges, Bridge Administration Branch Fifth District, Coast Guard; telephone (757) 398-6422, email Martin.A.Bridges@uscg.mil.

SUPPLEMENTARY INFORMATION: The District of Columbia Department of Transportation, who owns and operates the Frederick Douglass Memorial Bridge, has requested a temporary deviation from the current operating regulation. This temporary deviation is necessary to facilitate the construction and replacement of the existing Frederick Douglass Memorial Bridge with a fixed bridge on an alignment 18 feet south of the existing bridge. The existing bridge is a swing span bridge, and has a vertical clearance in the closed-to-navigation position of 42 feet above mean high water.

The current operating schedule is set out in 33 CFR 117.253. Under this temporary deviation, the bridge will be maintained in the closed-to-navigation position from 6 a.m. on February 2, 2018, through 6 a.m. on August 1, 2018. The Anacostia River is used by a variety of vessels including small commercial vessels and recreational vessels. The Coast Guard has carefully coordinated the restrictions with waterway users in publishing this temporary deviation.

Vessels able to pass through the bridge in the closed position may do so at anytime. The bridge will not be able to open for emergencies and there is no immediate alternate route for vessels unable to pass through the bridge in the closed position. The Coast Guard will also inform the users of the waterways through our Local and Broadcast Notice to Mariners of the change in operating schedule for the bridge so that vessels can arrange their transits to minimize any impacts caused by this temporary deviation.

In accordance with 33 CFR 117.35(e), the drawbridge must return to its regular operating schedule immediately at the end of the effective period of this temporary deviation. This deviation from the operating regulations is authorized under 33 CFR 117.35.

Dated: January 30, 2018.
Hal R. Pitts,
Bridge Program Manager, Fifth Coast Guard District.

[FR Doc. 2018-02082 Filed 2-1-18; 8:45 am]

BILLING CODE 9110-04-P